DEPARTMENT OF ENERGY

[FE Docket Nos. 05-12-LNG, 05-28-NG, 05-30-NG, 05-29-NG, 05-31-NG, 05-33-NG, 05-32-NG, 05-39-NG, 05-38-NG, and 05-37-NG]

Office of Fossil Energy; Orders Granting and Vacating Authority To Import and Export Natural Gas, Including Liquefied Natural Gas

AGENCY: Office of Fossil Energy, DOE.

ACTION: Notice of orders.

SUMMARY: The Office of Fossil Energy (FE) of the Department of Energy gives notice that during May 2005, it issued Orders granting and vacating authority to import and export natural gas, including liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on June 24, 2005.
R.F. Corbin,
Manager, Natural Gas Regulation, Office of Natural Gas Regulatory Activities, Office of Fossil Energy.

Appendix.—Orders Granting Import/Export Authorizations DOE/FE Authority
Order No. | Date issued | Importer/Exporter FE Docket No. | Import volume | Export volume | Comments
2077 | 5-10-05 | Statoil Natural Gas LLC, 05-12-LNG |  |  | ERRATA: Ordering paragraph A, the term was inadvertently stated as June 1, 2005, through March 31, 2007. Authority amended to state term as June 1, 2005, through May 31, 2007.
2089 | 5-12-05 | Keyspan-Ravenswood, LLC, 05-28-NG | 44 Bcf |  | Import and export a combined total of natural gas from and to Canada, beginning on June 1, 2005, and extending through May 31, 2007.
2090 | 5-20-05 | Encana Marketing (USA) Inc., 05-29-NG | 500 Bcf |  | Import and export a combined total of natural gas and LNG from and to Canada and Mexico and import LNG from various international sources, beginning on June 30, 2005, and extending through June 29, 2007.
2091 | 5-20-05 | Terasen Gas Inc., 05-30-NG | 25 Bcf |  | Import and export a combined total of natural gas from and to Canada, beginning on May 1, 2005, and extending through April 30, 2007.
2092 | 5-26-05 | PPM Energy, Inc., 05-31-NG | 300 Bcf |  | Import and export a combined total of natural gas from and to Canada, beginning on July 1, 2005, and extending through June 30, 2007.
2093 | 5-27-05 | Duke Energy Marketing America, LLC, 05-33-LNG | 900 Bcf |  | Import and export a combined total of natural gas, including LNG from and to Canada and Mexico, and LNG from various other sources beginning on June 30, 2005, and extending through June 29, 2007.
2094 | 5-27-05 | Sithe/Independence Power Partners, L.P., 05-32-NG | 60 Bcf |  | Import natural gas from Canada, beginning on July 1, 2005 and extending through June 30, 2007.
2095 | 5-27-05 | MeadWestvaco Corporation, 05-39-NG | 60 Bcf |  | Import natural gas from Canada, beginning on March 10, 2005, and extending through March 9, 2007.
2096 | 5-31-05 | New Page Corporation, 05-38-NG | 60 Bcf |  | Import natural gas from Canada, beginning on June 1, 2005, and extending through May 31, 2007.
2097 | 5-31-05 | AltaGas Marketing (U.S.) Inc., 05-37-NG | 30 Bcf |  | Import and export a combined total of natural gas from and to Canada, beginning on July 10, 2005, and extending through July 9, 2007.

[FR Doc. 05-13542 Filed 7-8-05; 8:45 am]

BILLING CODE 6450-01-P